DEPARTMENT OF DEFENSE

Department of the Army

Record of Decision for the Modernization and Repair of Piers 2 and 3, Military Ocean Terminal Concord, CA

AGENCY: Department of the Army, DOD.

ACTION: Notice of availability.

SUMMARY: The U.S. Army (Army) has prepared a Record of Decision (ROD) for the Modernization and Repair of Piers 2 and 3 at Military Ocean Terminal Concord, California (MOTCO) to document the Army's selection of Alternative 1 of the Final Environmental Impact Statement (EIS) for the action. Alternative 1 was selected because it meets the purpose and need of the proposed action, and balances environmental impacts with operational flexibility by providing MOTCO with safe, functional, and efficient facilities. Alternative 1 will fully implement repairs to Pier 3 and will re-orient and modernize Pier 2 to provide more efficient access for the types of vessels that use the pier. Implementation of Alternative 1 will include extensive demolition of existing Pier 2 and reconstruction of structural elements, replacement of pier-side infrastructure and supporting facilities at Pier 2, upgrades to shore-side roads and electrical infrastructure in the immediate vicinity of Piers 2 and 3, repair piles at Pier 3, and maintenance dredging waterward of Pier 2. The ROD adopts mitigation and management measures.

ADDRESSES: The ROD can be obtained electronically at http://www.sddc.army.mil/MOTCO/default.aspx. Written requests to obtain a copy of the ROD should be addressed to Mr. Malcolm Charles, Director of Public Works, Attention: SDAT-CCA-MI (Charles), 410 Norman Avenue, Concord, CA 94520; or emailed to usarmy.motco.sddc.mbx.list-eis@mail.mil.

FOR FURTHER INFORMATION CONTACT: Ms. Sarah Garner, Public Affairs Office, Surface Deployment and Distribution Command; telephone: (618) 220-6284; email: usarmy.scott.sddc.mbx.command-affairs@mail.mil.

SUPPLEMENTARY INFORMATION: The Army assessed the potential environmental and socioeconomic impacts associated with those actions necessary to modernize and repair Pier 2 and repair Pier 3 so the Army can maintain its ability to meet Department of Defense (DOD) mission requirements. The selected alternative implements repairs to Pier 3 and re-orients Pier 2 to provide more efficient access for the types of vessels that use the pier. The ROD incorporates the analysis contained in the Final EIS, including comments provided during the public review periods.

Potential impacts were evaluated for noise; air quality; geology, topography, and soils; water resources; biological resources; land use and coastal zone management; transportation; infrastructure; visual resources; recreational resources; socioeconomics; environmental justice and protection of children; cultural resources; and hazardous materials, hazardous waste, toxic substances, and contaminated sites. Based on the analysis described in the Final EIS, all impacts are anticipated to be less than significant.

The Army concluded that the proposed action is consistent, to the maximum extent practicable, with the enforceable policies of the San Francisco Bay Conservation and Development Commission's (BCDC's) Coastal Management Program. BCDC issued conditional concurrences to the Army's Coastal Zone Management Act Consistency Determinations for Piers 3 and 2 on January 21, 2015 and April 9, 2015, respectively. The Army will adhere to the conditions detailed in the respective amended Consistency Determinations.

The ROD adopts mitigation and management measures. The measures include (1) commitments for cultural and biological resources resulting from agency consultations and (2) existing best management practices and standard operating procedures that the Army will continue with implementation of the Alternative 1. Commitments include general and specific measures for the protection of cultural resources and the protection of federally listed species and their habitat. The best management practices and standard operating procedures address erosion control, stormwater management, energy reduction, water efficiency/conservation, hazardous materials management, spill prevention and response, munitions and explosives of concern, natural resources management, transportation, noise, cultural resources, seismic design, and air quality.

Brenda S. Bowen,
Army Federal Register Liaison Officer.

[FR Doc. 2015-10588 Filed 5-7-15; 8:45 am]

BILLING CODE 3710-08-P